DEPARTMENT OF THE INTERIOR

Fish and Wildlife Service

[FWS-R6-R-2014-N092; FXRS12610600000-145-FF06R06000]

National Bison Range Complex, Moiese, MT; Environmental Assessment for the Proposed Annual Funding Agreement With the Confederated Salish and Kootenai Tribes

AGENCY: Fish and Wildlife Service, Interior.

ACTION: Notice of availability; request for comments.

SUMMARY: We, the U.S. Fish and Wildlife Service (Service), announce that our draft environmental assessment (EA) for the proposed Annual Funding Agreement (AFA) with the Confederated Salish and Kootenai Tribes (CSKT) is available. The proposed AFA would allow CSKT to design, manage, and implement the biology, visitor services, fire, and maintenance program on the National Bison Range Complex. This draft EA describes and analyzes four alternatives, including the draft AFA and the No Action alternative.

DATES: To ensure consideration, we must receive your written comments on the draft EA by September 4, 2014. Submit comments by one of the methods under ADDRESSES.

ADDRESSES: Send your comments or requests for more information by one of the following methods.

Email: bisonrange@fws.gov. Include “NBR AFA” in the subject line.

U.S. Mail: Laura King, Planning Division, National Bison Range Complex, 58355 Bison Range Road, Moiese, MT 59824.

Document Request: A copy of the EA may be obtained by writing to U.S. Fish and Wildlife Service, Division of Refuge Planning, 134 Union Boulevard, Suite 300, Lakewood, CO 80228; or by download from http://fws.gov/bisonrange.

FOR FURTHER INFORMATION CONTACT: Laura King, by phone at 406-644-2211, ext. 210, or by email at laura_king@fws.gov; or Toni Griffin, by phone at 303-236-4378, or by email at toni_griffin@fws.gov.

SUPPLEMENTARY INFORMATION:

Introduction

The National Bison Range Complex (refuge complex) is managed by the U.S. Fish and Wildlife Service as part of the National Wildlife Refuge System (Refuge System). The refuge complex is located in Flathead, Lake, and Sanders Counties in northwestern Montana, with the refuge headquarters in Moiese, Montana. The refuge complex consists of the following units of the Refuge System: The National Bison Range, Pablo National Wildlife Refuge (Pablo Refuge), Ninepipe National Wildlife Refuge (Ninepipe Refuge), Lost Trail National Wildlife Refuge, and the Northwest Montana Wetland Management District (WMD). The units included in the proposed AFA are the National Bison Range, the Ninepipe and Pablo Refuges, and nine waterfowl production areas in the Lake County portion of the WMD. All of these units are in Lake and Sanders Counties, and within the boundaries of the Confederated Salish and Kootenai Tribes' (CSKT's) Flathead Indian Reservation.

The National Bison Range was established in 1908, to conserve the herd of bison presented by the American Bison Society. It also has a purpose as a refuge and breeding ground for birds. In addition, Pablo and Ninepipe Refuges were established as refuge and breeding areas for native birds. The United States owns all the lands within the refuge complex except for Ninepipe and Pablo Refuges, which are on tribal trust lands owned by CSKT. In 1948, the Service acquired a refuge easement from CSKT for the right to manage these lands and waters as part of the Refuge System. Including the nine waterfowl production areas in the WMD, the area being considered under the proposed action encompasses 26,604 acres made up of a variety of wildlife habitats from wetlands, lakes, and streams, to intermountain bunchgrass prairies interspersed with forested lands. The refuge complex supports a variety of wildlife species, including the plains bison, bighorn sheep, black bears, and migratory Federal trust species, including grassland birds and shorebirds that are becoming imperiled as habitats decline across their ranges. Over 205 species of birds use these lands for breeding, migration, and nesting.

The beauty of the Mission Valley and the refuge complex brings over 200,000 annual visitors from all over the world to view and photograph wildlife. Visitors come to explore the visitor center, drive the 19-mile-long Red Sleep Auto Tour Route, fish and hunt, and participate in refuge complex education and interpretation programs.

The CSKT is a Federally-recognized Indian Tribe represented by its Tribal Council, participating in the Tribal Self-Governance Program established by the Secretary of the Interior (Secretary) under the Indian Self-Determination and Education Assistance Act, 25 U.S.C. 450-450n, as amended by section 204 of the Tribal Self-Governance Act of 1994, codified at 25 U.S.C. 458aa-458hh. The CSKT is comprised of the Bitterroot Salish, the Pend d'Oreille, and the Kootenai Tribes, whose home is the 1.3-million-acre Flathead Indian Reservation in northwestern Montana. The Tribal Self-Governance Act gives qualifying tribes the authority to request and enter into negotiations for AFAs with non-BIA Department of the Interior agencies, authorizing the tribe to conduct programs, services, functions, or activities that have a special geographical, historical, or cultural significance to the tribe. We have the authority to decline a proposal made by any tribe, and we may not transfer any positions or duties that are considered inherently Federal.

Background

In November 2011, CSKT requested negotiations for a third AFA with the Service that would allow them to manage and implement the biology, fire, maintenance, and visitor services programs on the National Bison Range Complex. Negotiations for a draft AFA were concluded in March 2012. In May 2012, the Service initiated an EA process to evaluate the environmental consequences of this draft AFA. The public was notified about the EA process through statewide media outlets and the refuge complex Web site. As part of this public scoping process, the public reviewed the draft AFA and provided comments. We prepared this EA to document our analysis of alternatives. Implementation of any of the alternatives would involve changes to the staff and administration of the National Bison Range Complex, so we developed a range of alternatives, with different levels of program management by the CSKT and various staff configurations. In this EA, we describe in detail the following alternatives and their expected consequences:

• Alternative A—No Action

• Alternative B—Draft AFA (Proposed Action)

• Alternative C—AFA for Fire and Visitor Programs

• Alternative D—AFA same as Alternative C, plus Addition of More CSKT Staff in All Programs

• Alternative E—AFA same as Alternative D, plus District Programs With Combined Service and CSKT Staff in All Programs

AFA Alternatives We Are Considering

Alternative A—Current Management (No Action)

In accordance with approved Service plans and policies and under the supervision and leadership of the refuge manager, our employees would plan, design, and conduct all work on the refuge complex, augmented as needed by contractors, volunteers, and cooperators such as universities and researchers. We would keep the nine current permanent positions and convert the two term positions (fish and wildlife biologist and maintenance worker) back to permanent status. Our program leaders in the biology, visitor services, and maintenance programs would continue to recruit and supervise or lead the respective staff in their programs. A GS-9 outdoor recreation planner may be utilized to help develop programs and projects and to manage the visitor center for the 200,000 visitors that come to the refuge complex each year, bringing the staff to 12 permanent employees. We would continue targeted recruiting of CSKT members and descendants for seasonal positions, vacated permanent positions, and the Federal Pathways Programs for students, which would give individuals the experience and opportunity to qualify for careers with us or other agencies.

We would continue to coordinate with CSKT as the entity responsible for wildlife management throughout the surrounding Flathead Indian Reservation and as the owner of the lands on which the Ninepipe and Pablo Refuges are situated and other adjoining tribal lands. Our informal and formal cooperation with CSKT would continue on issues such as invasive plant species control, fire management, trumpeter swan restoration, habitat management and native plant restoration, and grizzly bear and gray wolf management on the reservation.

Under the leadership of our supervisory wildlife biologist, we would continue to plan, design, and manage all biological programs to support and accomplish the purposes for which each unit of the refuge complex was established. We would continue to set annual priorities, designing and monitoring short- and long-term projects to better understand the resources of the refuge complex and address management concerns. Inventory and monitoring programs would continue to focus on Federal trust species and the biological resources that support those species. The biological staff would develop or update our long-range management plans such as the 15-year Comprehensive Conservation Plan and the habitat management plan. We would develop these documents with the full involvement of various partners CSKT and the State of Montana.

The quality of the forage, including the spread of invasive plant species and the effects of other grazing animals and insects, would continue to be monitored and managed on the Bison Range to improve range health for bison forage while providing a diversity of habitats for other native wildlife. We would continue to inventory and monitor infestations of invasive plant species and develop and apply treatment strategies, using an integrated approach of chemical, biological, cultural, and mechanical methods. We would continue to coordinate with CSKT and other partners in Lake and Sanders Counties, to develop a treatment strategy that identifies priorities, new invaders, and treatment areas that would have a greater effect on a larger landscape.

We would coordinate water level management on the Ninepipe and Pablo Refuges and waterfowl production areas with CSKT and the Flathead Irrigation District. We would use water level management structures to optimize nesting, feeding, and brood-rearing habitat for waterfowl and other waterbirds.

Bird surveys, including surveys of waterfowl, neotropical migrants, and resident birds, would continue to be designed and carried out by our staff or coordinated with other agencies such as the CSKT Division of Fish, Wildlife, Recreation, and Conservation (FWRC). We would conduct annual big game counts, per recommendations in the Bison Range's Fenced Animal Management Plan.

We would continue to monitor bison health and genetic integrity in coordination with the Service's Wildlife Health Office (WHO). We would monitor the health of our bison herd, including conducting necropsies to prevent the spread of disease. Our maintenance and biological staff would plan and conduct the annual bison roundup to collect genetic information and monitor herd health.

Under the leadership of our supervisory outdoor recreation planner, we would continue to plan and execute all visitor services programs, which would focus on the mission of the Service, refuge management programs, cultural importance of the refuge complex, and our Federal trust species such as bison and migratory birds, other resident wildlife, and their native habitat needs. We would continue to provide hunting and fishing opportunities on specific units within the refuge complex, following Federal, State, and reservation laws. We would continue to develop and provide environmental education and interpretive programs to local schools and conduct outreach through local media and online resources to educate the public about the refuge complex, the Service, and the Refuge System. Our supervisory outdoor recreation planner would be responsible for developing long-range management plans, including the 15-year Comprehensive Conservation Plan and the Visitor Services Plan for the refuge complex.

Under the direction of our lead maintenance employee, we would continue to be responsible for all projects and programs associated with the maintenance program, including the maintenance and repair of all facilities, roads, equipment, and vehicles, to provide dependable, safe, and secure operating conditions for all programs. Our maintenance staff would continue to assist with habitat management projects, such as invasive species control, haying and grazing programs, habitat restoration, and water level management. Our maintenance staff would also continue to be responsible for the movement of bison for grazing management and the annual roundup activities necessary for monitoring herd health and excessing animals. Using horses, our maintenance staff would relocate bison every 2 to 3 weeks (April through September) to manage refuge habitats and provide optimal grazing opportunities. They would also continue to lead the operations needed to move bison through the corral system during the annual roundup, upgrading and maintaining this system as needed. The two highest graded maintenance employees would continue to train other employees, including management and biology staff, on how to safely assist with these operations.

Alternative B—Proposed Action

We would execute and carry out the draft AFA negotiated with CSKT during 2011-2012 (appendix A). CSKT would be responsible for designing, implementing, and managing the biology, fire, maintenance, and visitor services programs, as described in alternative A, in accordance with approved Service plans and policies. Three of the 11 current Service employees—refuge manager, deputy refuge manager, and law enforcement officer—would remain employed by us. Remaining staff would be assigned or transferred to CSKT. Five permanent employees—a GS-12 supervisory wildlife biologist, GS-9 range conservationist, WG-9 equipment operator, WG-8 maintenance worker, and GS-7 range (fire) technician—would be asked to sign Intergovernmental Personnel Act (IPA) agreements assigning them to work for CSKT. IPA assignments are voluntary, and must be agreed to by our employees. The GS-11 supervisory outdoor recreation planner position would remain with the Service until that employee transfers or retires. At that time, the position and funding would be given to CSKT for recruitment of its own employee. Two 4-year term positions—a WG-7 maintenance worker and a GS-9 fish and wildlife biologist—would not be renewed. These positions would be converted to permanent positions and their salaries and duties would be transferred to CSKT for recruitment. Providing CSKT with these 8 permanent positions would allow CSKT to manage and implement refuge programs, including supervising all program leaders and support staff and recruiting and supervising volunteers.

We would provide funding to CSKT for recruitment of two to six seasonal employees to support all refuge complex programs and a GS-11 (equivalent) wildlife refuge specialist. The wildlife refuge specialist would be supervised by the manager of the CSKT FWRC, but would receive day-to-day direction from either our refuge manager or deputy refuge manager. The wildlife refuge specialist would supervise all CSKT and IPA Service staff, directing the day-to-day work of employees and volunteers in the biology, fire, maintenance, and visitor services programs. In the absence of the CSKT wildlife refuge specialist, a CSKT-designated official would fulfill these duties.

A refuge complex leadership team would be formed to develop annual work plans, set work priorities, address performance and conduct issues, prepare periodic status reports, and resolve disputes. The leadership team would include our refuge manager and deputy refuge manager, the CSKT wildlife refuge specialist, and the manager of the CSKT FWRC. The team would meet as needed to discuss management plans and address issues.

Alternative C

We would negotiate an AFA with CSKT authorizing it to conduct the fire management program and collaborate on all aspects of the visitor services program. All work of the refuge complex, as described in alternative A, would be accomplished under the supervision and leadership of our refuge manager or deputy refuge manager and our program leaders in accordance with approved Service plans and policies. The Service would retain all current Federal positions and convert the two term positions—fish and wildlife biologist and maintenance worker—back to permanent status.

CSKT Fire Management Division staff would implement the fire management program. The Division (under the Tribes' Forestry Department) is responsible for wildland fire management, including fire preparedness, wildfire suppression, and application of prescribed fire on the Flathead Indian Reservation. We would provide funding to CSKT to recruit a GS-9 (equivalent) outdoor recreation planner and up to four seasonal CSKT employees to implement the visitor services program, including operating the visitor center and greeting and orienting visitors. The CSKT outdoor recreation planner would supervise these seasonal CSKT employees and work alongside our supervisory outdoor recreation planner. They would collaborate on interpretive and education programs and on providing visitors with information on the resources, management, history, and cultural significance of the refuge complex.

Alternative D

In addition to the fire operations and visitor services programs as described in alternative C, CSKT would receive funding to recruit up to three more seasonal employees (in addition to the four seasonal visitor services staff). These added CSKT employees would support the biology and maintenance programs. Our Service leaders would train and lead all CSKT staff in all programs. The long-term objective would be to transfer more of the permanent positions to CSKT over time, through attrition and negotiation.

All work of the refuge complex, as described in alternative A, would be accomplished under the supervision and leadership of our refuge manager or deputy refuge manager and our program leaders, in accordance with approved Service plans and policies. The approach would be to provide the opportunity and time needed for the new CSKT employees to gain the experience and knowledge necessary to fully perform the activities of permanent positions. In addition to the refuge manager, deputy refuge manager, and law enforcement officer, the Service would retain the program leader or highest graded positions in the biology, maintenance, and visitor services program. We would also retain the second highest graded maintenance worker. These seven positions could continue refuge programs and train new employees, including new CSKT staff, regardless the status of an AFA. The current term positions (fish and wildlife biologist and maintenance worker) would be converted to permanent. Four positions could transfer to CSKT (after being vacated through transfer, retirement, or resignation) including a GS-9 (equivalent) fish and wildlife biologist, GS-9 (equivalent) range conservationist, GS-7 (equivalent) range technician, and WG-7 (equivalent) maintenance worker. As these permanent positions were vacated, our refuge manager would renegotiate with CSKT to decide whether or not to transfer them to CSKT. Our employees would work closely with CSKT seasonal staff to provide the training and experience needed to support the operations and programs of the refuge complex and to help them compete for permanent positions with us or with CSKT.

Alternative E

In addition to transferring fire and visitor services operations to CSKT, as described in alternatives C and D, this AFA would add more CSKT staff positions, expanding our management capabilities on the refuge complex. CSKT-recruited staff would be involved in all operations on the refuge complex, particularly on the Ninepipe and Pablo Refuges and on the nine waterfowl production areas in the WMD. All work of the refuge complex, as described in alternative A, would be accomplished under the supervision and leadership of our refuge manager or deputy refuge manager and our program leaders, in accordance with approved Service plans and policies. Under this AFA, we would provide funding to the CSKT to recruit two new employees to help with the management of the WMD, including a GS-11 (equivalent) wildlife refuge specialist and a WG-6 (equivalent) maintenance worker. The manager of the CSKT FWRC would supervise these employees.

CSKT would also be provided funding to recruit three additional permanent employees that would support complex-wide programs, including a WG-6 (equivalent) maintenance worker, GS-5 (equivalent) biological science technician, a GS-9 (equivalent) range conservationist, and an average of two to six temporary employees (depending on annual project funding) in the biology, visitor services, and maintenance programs. Our refuge manager and program leaders would be involved in the recruitment and selection of all CSKT staff, working collaboratively with both agencies' personnel or human resources offices. Initially, we would keep nine employees, working closely with the CSKT staff to provide the training and experience needed to support the operations and programs of the refuge complex and safely manage our bison herd. Through negotiation after transfer, retirement, or resignation of our in-place employees, we may transfer up to three more positions to the CSKT, including a GS-9 (equivalent) fish and wildlife biologist, WG-7 (equivalent) maintenance worker, and GS-7 (equivalent) range technician.

Next Steps

After the public provides comments on the draft EA, we will present this document, along with a summary of all substantive public comments, to the Regional Director. The Regional Director will consider the environmental effects of each alternative, along with information gathered during public review, and will select a preferred alternative. If the Regional Director finds that no significant impacts would occur, the Regional Director's decision will be disclosed in a Finding of No Significant Impact. If the Regional Director finds a significant impact would occur, an environmental impact statement will be prepared. If approved, the action in the preferred alternative will become the proposed AFA between the Service and CSKT. This proposed AFA will be sent to Congress for a 90-day review prior to being signed and implemented.

Public Availability of Comments

All public comment information provided voluntarily by mail or by phone (e.g., names, addresses, comments) becomes part of the official public record. If requested under the Freedom of Information Act by a private citizen or organization, the Service may provide copies of such information.

Authority

The environmental review of this project will be conducted in accordance with the requirements of the National Environmental Policy Act (NEPA) of 1969, as amended (42 U.S.C. 4321 et seq.); NEPA regulations (40 CFR parts 1500 through1508, 43 CFR part 46); other appropriate Federal laws and regulations; Executive Order 12996; the National Wildlife Refuge System Administration Act of 1966, as amended; and Service policies and procedures for compliance with those laws and regulations.

Dated: June 6, 2014.
Matt Hogan,
Acting, Regional Director, Mountain-Prairie Region, U. S. Fish and Wildlife Service.

[FR Doc. 2014-18450 Filed 8-4-14; 8:45 am]

BILLING CODE 4310-55-P